DEPARTMENT OF TRANSPORTATION

Federal Aviation Administration

14 CFR Part 39

[Docket No. FAA-2025-0626; Project Identifier MCAI-2024-00713-T]

RIN 2120-AA64

Airworthiness Directives; Airbus SAS Airplanes

AGENCY: Federal Aviation Administration (FAA), DOT.

ACTION: Notice of proposed rulemaking (NPRM).

SUMMARY: The FAA proposes to adopt a new airworthiness directive (AD) for all Airbus SAS Model A318, A319, A320, and A321 series airplanes. This proposed AD was prompted by a heavy maintenance check that found elongation on the upper section of the vertical member's assembly at the frame (FR) 24A cargo panel sub-structure. This proposed AD would require a check for certain repairs, and as applicable, repetitive detailed visual inspections of the vertical member's upper part and the upper fittings at FR 24A in the forward cargo compartment and corrective actions. The FAA is proposing this AD to address the unsafe condition on these products.

DATES: The FAA must receive comments on this proposed AD by June 5, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0626; or in person at Docket Operations between 9 a.m. and 5 p.m., Monday through Friday, except Federal holidays. The AD docket contains this NPRM, the mandatory continuing airworthiness information (MCAI), any comments received, and other information. The street address for Docket Operations is listed above.

Material Incorporated by Reference:

• For Airbus material identified in this proposed AD, contact Airbus SAS, Airworthiness Office—EIAS, Rond-Point Emile Dewoitine No: 2, 31700 Blagnac Cedex, France; telephone +33 5 61 93 36 96; fax +33 5 61 93 44 51; email account.airworth-eas@airbus.com; website airbus.com.

• You may view this material at the FAA, Airworthiness Products Section, Operational Safety Branch, 2200 South 216th St., Des Moines, WA. For information on the availability of this material at the FAA, call 206-231-3195.

FOR FURTHER INFORMATION CONTACT: Tim Dowling, Aviation Safety Engineer, FAA, 2200 South 216th St., Des Moines, WA 98198; telephone 206-231-3667; email timothy.p.dowling@faa.gov.

SUPPLEMENTARY INFORMATION:

Comments Invited

The FAA invites you to send any written relevant data, views, or arguments about this proposal. Send your comments to an address listed under the ADDRESSES section. Include “Docket No. FAA-2025-0626; Project Identifier MCAI-2024-00713-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Tim Dowling, Aviation Safety Engineer, FAA, 2200 South 216th St., Des Moines, WA 98198; telephone 206-231-3667; email timothy.p.dowling@faa.gov. Any commentary that the FAA receives that is not specifically designated as CBI will be placed in the public docket for this rulemaking.

Background

The European Union Aviation Safety Agency (EASA), which is the Technical Agent for the Member States of the European Union, has issued EASA AD 2025-0083, dated April 14, 2025 (EASA AD 2025-0083) (also referred to as the MCAI), to correct an unsafe condition for all Airbus SAS Model A318-111, -112, -121, and -122 airplanes; Model A319-111, -112, -113, -114, -115, -131, -132, -133, -151N, -153N, -171N, and -173N airplanes; Model A320-211, -212, -214, -215, -216, -231, -232, -233, -251N, -252N, -253N, -271N, -272N, and -273N airplanes; Model A321-111, -112, -131, -211, -212, -213, -231, -232, -251N, -251NX, -252N, -252NX, -253N, -253NX, -253NY, -271N, -271NX, -272N, and -272NX airplanes. Model A320-215 and A321-271NY airplanes are not certificated by the FAA and are not included on the U.S. type certificate data sheet; this proposed AD therefore does not include those airplanes in the applicability. The MCAI states that during heavy maintenance checks, elongation was found on the upper section of the vertical member's assembly (Y-765, Y-254, Y254, and Y765) at the FR 24A cargo panel sub-structure. The affected parts are the cargo bulkhead vertical member upper parts and upper fittings located at FR 24A behind the 80VU rack.

The FAA is proposing this AD to detect and correct damage of the FR 24A vertical members assembly in the forward cargo compartment. The unsafe condition, if not addressed, could lead to affected parts hitting the 80VU rack and subsequent loss of several 80VU computers, with multiple system failures or partial disconnection of systems, which could result in reduced control of the airplane.

You may examine the MCAI in the AD docket at regulations.gov under Docket No. FAA-2025-0626.

Material Incorporated by Reference Under 1 CFR Part 51

Airbus Service Bulletin A320-25-1CFU and Airbus Service Bulletin A320-25-1CFV, both dated September 26, 2024, specify procedures for a maintenance records check for certain existing repairs, and depending on the results of the check, contacting Airbus for instructions, repetitive detailed visual inspections for damage (e.g., cracking and wear, which includes elongation of the hole) of the vertical members upper part (side, elongated hole, and guiding nuts) and repetitive detailed visual inspections for damage (e.g., cracking and wear) of the upper fittings at FR 24A in the forward cargo compartment. Depending on the detailed visual inspection results, the material also specifies corrective actions, including repairing damage, installing new or retained vertical members and new guiding nuts, and replacing damaged upper fittings with new fittings. These documents are distinct since they apply to different airplane configurations.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this NPRM after determining that the unsafe condition described previously is likely to exist or develop in other products of the same type design.

Proposed AD Requirements in This NPRM

This proposed AD would require accomplishing the actions specified in the material already described, except for any differences identified as exceptions in the regulatory text of this proposed AD.

Explanation of Proposed Compliance Times

The initial compliance time for the proposed check and, as applicable, the detailed visual inspections is the later of: Before exceeding 30,000 flight hours since first flight, 15,000 flight cycles since first flight, or 72 months since airplane date of manufacture, whichever occurs first; and within 36 months.

The proposed repetitive compliance time for applicable detailed visual inspections is at intervals not to exceed 30,000 flight hours, 15,000 flight cycles, or 72 months, whichever occurs first.

Costs of Compliance

The FAA estimates that this AD, if adopted as proposed, would affect 1,938 airplanes of U.S. registry. The FAA estimates the following costs to comply with this proposed AD:

Estimated Costs for Required Actions
Labor cost | Parts cost | Cost per product | Cost on U.S. operators
1 work-hour × $85 per hour = $85 | $0 | $85 | $164,730

The FAA estimates the following costs to do any necessary on-condition actions that would be required based on the results of any required actions. The FAA has no way of determining the number of aircraft that might need these on-condition actions:

Estimated Costs of On-Condition Actions *
Labor cost | Parts cost | Cost per product
Up to 8 work-hours × $85 per hour = $680 | Up to $614 | $1,294
* Includes damage repair, installation of vertical members and guiding nuts, replacement of upper fittings with new fittings, and repetitive inspections. The FAA has received no definitive data on which to base the cost estimates for the on-condition instructions specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus SAS: Docket No. FAA-2025-0626; Project Identifier MCAI-2024-00713-T.

(a) Comments Due Date

The FAA must receive comments on this airworthiness directive (AD) by June 5, 2025.

(b) Affected ADs

None.

(c) Applicability

This AD applies to all Airbus SAS Model airplanes specified in paragraphs (c)(1) through (4) of this AD, certificated in any category.

(1) Model A318-111, -112, -121, and -122 airplanes.

(2) Model A319-111, -112, -113, -114, -115, -131, -132, -133, -151N, -153N, -171N, and -173N airplanes.

(3) Model A320-211, -212, -214, -216, -231, -232, -233, -251N, -252N, -253N, -271N, -272N, and -273N airplanes.

(4) Model A321-111, -112, -131, -211, -212, -213, -231, -232, -251N, -251NX, -252N, -252NX, -253N, -253NX, -253NY, -271N, -271NX, -272N, and -272NX airplanes.

(d) Subject

Air Transport Association (ATA) of America Code 25, Equipment/furnishings.

(e) Unsafe Condition

This AD was prompted by a heavy maintenance check that found elongation on the upper section of the vertical member's assembly at the frame (FR) 24A cargo panel sub-structure. The FAA is issuing this AD to detect and correct damage of the FR 24A vertical members assembly in the forward cargo compartment. The unsafe condition, if not addressed, could lead to affected parts hitting the 80VU rack and subsequent loss of several 80VU computers, with multiple system failures or partial disconnection of systems, which could result in reduced control of the airplane.

(f) Compliance

Comply with this AD within the compliance times specified, unless already done.

(g) Requirements

(1) For Model A318-111, -112, -121, and -122 airplanes; Model A319-111, -112, -113, -114, -115, -131, -132, and -133 airplanes; Model A320-211, -212, -214, -216, -231, -232, and -233 airplanes; and Model A321-111, -112, -131, -211, -212, -213, -231, and -232 airplanes: Except as specified in paragraph (h) of this AD, at the applicable times specified in paragraph 1.E., “Compliance,” of Airbus Service Bulletin A320-25-1CFU, dated September 26, 2024, do all applicable actions identified as “RC” (required for compliance) in, and in accordance with, the Accomplishment Instructions of Airbus Service Bulletin A320-25-1CFU, dated September 26, 2024.

(2) For Model A319-151N, -153N, -171N, and -173N airplanes; Model A320-251N, -252N, -253N, -271N, -272N, and -273N airplanes; and Model A321-251N, -251NX, -252N, -252NX, -253N, -253NX, -253NY, -271N, -271NX, -272N, and -272NX airplanes: Except as specified in paragraph (h) of this AD, at the applicable times specified in paragraph 1.E., “Compliance,” of Airbus Service Bulletin A320-25-1CFV, dated September 26, 2024, do all applicable actions identified as “RC” in, and in accordance with, the Accomplishment Instructions of Airbus Service Bulletin A320-25-1CFV, dated September 26, 2024.

(h) Exceptions to Service Information

(1) Where paragraph 1.E., “Compliance,” of Airbus Service Bulletin A320-25-1CFU, dated September 26, 2024, and Airbus Service Bulletin A320-25-1CFV, dated September 26, 2024, refer to “the effective date of the AD,” this AD requires using the effective date of this AD.

(2) Where paragraph 1.E., “Compliance,” of Airbus Service Bulletin A320-25-1CFU, dated September 26, 2024, and Airbus Service Bulletin A320-25-1CFV, dated September 26, 2024, refer to a compliance time “since aircraft entry into service (EIS)” or “since aircraft EIS,” for this AD, replace that text with “since airplane date of manufacture.”

(3) Where the “Conditions” column of Table 2 in paragraph 1.E., “Compliance,” of Airbus Service Bulletin A320-25-1CFU, dated September 26, 2024, and Airbus Service Bulletin A320-25-1CFV, dated September 26, 2024, refers to “All aircraft,” for this AD, replace that text with “All aircraft on which the vertical member has not been repaired as per RDAF and it has not been repaired in accordance with SRM 53-21-29-300-002.”

(4) Where the “Conditions” column of Table 3 in paragraph 1.E., “Compliance,” of Airbus Service Bulletin A320-25-1CFU, dated September 26, 2024, and Airbus Service Bulletin A320-25-1CFV, dated September 26, 2024, refers to “All aircraft,” for this AD, replace that text with “All aircraft on which the upper fitting has not been repaired in accordance with SRM 53-21-29-283-003.”

(5) Where paragraph 1.E., “Compliance” and the Accomplishment Instructions of Airbus Service Bulletin A320-25-1CFU, dated September 26, 2024, and Airbus Service Bulletin A320-25-1CFV, dated September 26, 2024, specify “should be replaced,” for this AD, replace that text with “must be replaced.”

(i) No Reporting Requirement

Although Airbus Service Bulletin A320-25-1CFU, dated September 26, 2024, and Airbus Service Bulletin A320-25-1CFV, dated September 26, 2024, specify to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the Manager, AIR-520, Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or the European Union Aviation Safety Agency (EASA); or Airbus SAS's EASA Design Organization Approval (DOA). If approved by the DOA, the approval must include the DOA-authorized signature.

(3) Required for Compliance (RC): Except as required by paragraph (j)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Tim Dowling, Aviation Safety Engineer, FAA, 2200 South 216th St., Des Moines, WA 98198; telephone 206-231-3667; email timothy.p.dowling@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) Airbus Service Bulletin A320-25-1CFU, dated September 26, 2024.

(ii) Airbus Service Bulletin A320-25-1CFV, dated September 26, 2024.

(3) For Airbus material identified in this AD, contact Airbus SAS, Airworthiness Office—EIAS, Rond-Point Emile Dewoitine No: 2, 31700 Blagnac Cedex, France; telephone +33 5 61 93 36 96; fax +33 5 61 93 44 51; email account.airworth-eas@airbus.com; website airbus.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on April 14, 2025.
Peter A. White,
Deputy Director, Integrated Certificate Management Division, Aircraft Certification Service.

[FR Doc. 2025-06667 Filed 4-18-25; 8:45 am]

BILLING CODE 4910-13-P